NUCLEAR REGULATORY COMMISSION

[NRC-2021-0121]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from April 30, 2021, to May 26, 2021. The last monthly notice was published on May 18, 2021.

DATES: Comments must be filed by July 15, 2021. A request for a hearing or petitions for leave to intervene must be filed by August 16, 2021.

ADDRESSES: You may submit comments by any of the following methods; however, the NRC encourages electronic comment submission through the Federal Rulemaking Website:

• Federal Rulemaking Website: Go to https://www.regulations.gov and search for Docket ID NRC-2021-0121. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Janet Burkhardt, Office of Nuclear Reactor Regulation, U.S. Nuclear Regulatory Commission, Washington, DC 20555-0001, telephone: 301-415-1384, email: Janet.Burkhardt@nrc.gov.

SUPPLEMENTARY INFORMATION:

I. Obtaining Information and Submitting Comments

A. Obtaining Information

Please refer to Docket ID NRC-2021-0121, facility name, unit number(s), docket number(s), application date, and subject when contacting the NRC about the availability of information for this action. You may obtain publicly available information related to this action by any of the following methods:

• Federal Rulemaking Website: Go to https://www.regulations.gov and search for Docket ID NRC-2021-0121.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

B. Submitting Comments

The NRC encourages electronic comment submission through the Federal Rulemaking Website (https://www.regulations.gov). Please include Docket ID NRC-2021-0121, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the following facility-specific amendment requests, the Commission finds that the licensees' analyses provided, consistent with section 50.91 of title 10 of the Code of Federal Regulations (10 CFR), are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as discussed below, is granted. Detailed guidance on electronic submissions is located in the Guidance for Electronic Submissions to the NRC (ADAMS Accession No. ML13031A056) and on the NRC website at https://www.nrc.gov/site-help/e-submittals.html.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system timestamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as described above, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Dominion Energy South Carolina, Inc.; Virgil C. Summer Nuclear Station, Unit 1, Fairfield County, SC
Docket No(s) | 50-395.
Application date | April 8, 2021.
ADAMS Accession No | ML21102A127.
Location in Application of NSHC | Pages 1-2 of Attachment 6.
Brief Description of Amendment(s) | The proposed amendment would modify the technical specifications by relocating specific surveillance frequencies to a licensee-controlled program with the implementation of Nuclear Energy Institute (NEI) 04-10, “Risk-Informed Technical Specifications Initiative 5b, Risk-Informed Method for Control of Surveillance Frequencies.” The changes are consistent with Technical Specifications Task Force (TSTF) Traveler TSTF-425, Revision 3, “Relocate Surveillance Frequencies to Licensee Control—RITSTF Initiative 5b.”
Proposed Determination | NSHC.
Name of Attorney for Licensee, Mailing Address | W.S. Blair, Senior Counsel, Dominion Resource Services, Inc., 120 Tredegar St., RS-2, Richmond, VA 23219.
NRC Project Manager, Telephone Number | Vaughn Thomas, 301-415-5897.
DTE Electric Company; Fermi, Unit 2; Monroe County, MI
Docket No(s) | 50-341.
Application date | March 31, 2021.
ADAMS Accession No | ML21090A194.
Location in Application of NSHC | Pages 21-22 of Enclosure 1.
Brief Description of Amendment(s) | The proposed amendment would revise the Fermi 2 technical specifications (TSs) to remove obsolete information, make minor corrections and some miscellaneous editorial changes. Additionally, the amendment would incorporate specific TS changes such as: adding Completion Times to Sections 3.3.7.2 and 3.3.7.3 for Required Action A.2; removing “testable check” from Part c of Surveillance Requirement 3.4.5.1; changing “position titles” in Sections 5.1.2, 5.2.1, 5.2.2, and 5.7.2; and removing the Core Operating Limits Report reference from Section 5.6.5.
Proposed Determination | NSHC.
Name of Attorney for Licensee, Mailing Address | Jon P. Christinidis, DTE Energy, Expert Attorney—Regulatory, 688 WCB, One Energy Plaza, Detroit, MI 48226.
NRC Project Manager, Telephone Number | Surinder Arora, 301-415-1421.
Duke Energy Progress, LLC; Brunswick Steam Electric Plant, Units 1 and 2; Brunswick County, NC
Docket No(s) | 50-324, 50-325.
Application date | April 1, 2021, as supplemented by letter dated April 26, 2021.
ADAMS Accession No | ML21091A053, ML21116A161.
Location in Application of NSHC | Pages 8-9 of Attachment 1.
Brief Description of Amendment(s) | The proposed amendments would modify technical specification requirements to permit the use of risk-informed completion times in accordance with Technical Specifications Task Force (TSTF) Traveler TSTF-505, Revision 2, “Provide Risk-Informed Extended Completion Times—RITSTF Initiative 4b.”
Proposed Determination | NSHC.
Name of Attorney for Licensee, Mailing Address | Kathryn B. Nolan, Deputy General Counsel, Duke Energy Corporation, 550 South Tryon Street (DEC45A), Charlotte, NC 28202.
NRC Project Manager, Telephone Number | Andrew Hon, 301-415-8480.
Duke Energy Progress, LLC; Shearon Harris Nuclear Power Plant, Unit 1; Wake and Chatham Counties, NC
Docket No(s) | 50-400.
Application date | February 24, 2021.
ADAMS Accession No | ML21055A819.
Location in Application of NSHC | Pages 16-18 of Enclosure 1.
Brief Description of Amendment(s) | The proposed amendment would remove License Condition 2.G, “Reporting to the Commission,” which requires the licensee to report any violations of Operating License Section 2.C within 24 hours to the NRC Operations Center via the Emergency Notification System with a written follow-up within 30 days. Additionally, the proposed change would delete Shearon Harris Nuclear Power Plant (HNP) Technical Specification (TS) ¾.4.10, “Structural Integrity,” revise Administrative Control TS 6.1.2 to eliminate the annual management directive requirement, and revise TS Table 4.3-2, “Engineered Safety Features Actuation System Instrumentation Surveillance Requirements,” to remove an overly restrictive requirement that impedes the full application of the Surveillance Frequency Control Program for a specific subset of relays. Lastly, the proposed amendment would also revise the HNP TS to remove the index and place it under licensee control.
Proposed Determination | NSHC.
Name of Attorney for Licensee, Mailing Address | David Cummings, Associate General Counsel, Mail Code DEC45, 550 South Tryon Street, Charlotte, NC 28202.
NRC Project Manager, Telephone Number | Michael Mahoney, 301-415-3867.
Duke Energy Progress, LLC; Shearon Harris Nuclear Power Plant, Unit 1; Wake and Chatham Counties, NC
Docket No(s) | 50-400.
Application date | March 24, 2021.
ADAMS Accession No | ML21083A317.
Location in Application of NSHC | Pages 6-7 of Enclosure 1.
Brief Description of Amendment(s) | The proposed amendment would revise the surveillance frequency associated with containment spray nozzle testing specified by Surveillance Requirement 4.6.2.1.d. Specifically, the proposed change would replace the current testing frequency, as specified by the Surveillance Frequency Control Program, with an event-based frequency.
Proposed Determination | NSHC.
Name of Attorney for Licensee, Mailing Address | David Cummings, Associate General Counsel, Mail Code DEC45, 550 South Tryon Street, Charlotte, NC 28202.
NRC Project Manager, Telephone Number | Michael Mahoney, 301-415-3867.
Energy Harbor Nuclear Corp. and Energy Harbor Nuclear Generation LLC; Beaver Valley Power Station, Units 1 and 2; Beaver County, PA
Docket No(s) | 50-334, 50-412.
Application date | April 26, 2021.
ADAMS Accession No | ML21117A076.
Location in Application of NSHC | Pages 7-9 of the Enclosure.
Brief Description of Amendment(s) | The proposed amendments would revise Technical Specification 5.6.3, “Core Operating Limits Report (COLR),” to allow the use of feedwater venturis that have been normalized to prior leading edge flow meter measurements when calculating reactor thermal power.
Proposed Determination | NSHC.
Name of Attorney for Licensee, Mailing Address | Rick Giannantonio, General Counsel, Energy Harbor Nuclear Corp., Mail Stop A-GO-15, 76 South Main Street, Akron, OH 44308.
NRC Project Manager, Telephone Number | Sujata Goetz, 301-415-8004.
Exelon Generation Company, LLC; Braidwood Station, Units 1 and 2, Will County, IL; Byron Station, Unit Nos. 1 and 2, Ogle County, IL; R.E. Ginna Nuclear Power Plant; Wayne County, NY
Docket No(s) | 50-244, 50-456, 50-457, 50-454, 50-455.
Application date | April 7, 2021.
ADAMS Accession No | ML21097A226.
Location in Application of NSHC | Pages 11-12 of Attachment 1.
Brief Description of Amendment(s) | The proposed amendments would revise the Braidwood, Byron, and Ginna technical specifications to address the issues identified in two Westinghouse Electric Company, LLC documents. The proposed changes would address issues identified in Westinghouse Nuclear Safety Advisory Letter NSAL-09-5, Revision 1, “Relaxed Axial Offset Control FQ Technical Specification Actions,” and Westinghouse Nuclear Safety Advisory Letter NSAL-15-1, Revision 0, “Heat Flux Hot Channel Factor Technical Specification Surveillance.”
Proposed Determination | NSHC.
Name of Attorney for Licensee, Mailing Address | Tamra Domeyer, Associate General Counsel, Exelon Generation Company, LLC, 4300 Winfield Road, Warrenville, IL 60555.
NRC Project Manager, Telephone Number | Joel Wiebe, 301-415-6606.
Exelon Generation Company, LLC; Limerick Generating Station, Units 1 and 2; Montgomery County, PA
Docket No(s) | 50-352, 50-353.
Application date | February 17, 2021.
ADAMS Accession No | ML21048A324.
Location in Application of NSHC | Pages 5-7 of Attachment 1.
Brief Description of Amendment(s) | The proposed amendments would revise the Limerick Generating Station, Units 1 and 2 (LGS) Technical Specification (TS) Definitions 1.4, 1.6, and 1.20 for CHANNEL CALIBRATION, CHANNEL FUNCTIONAL TEST, and LOGIC SYSTEM FUNCTIONAL TEST, respectively. The proposed changes will align the LGS TS definitions with the definitions in Technical Specifications Task Force (TSTF) Traveler TSTF-205-A, Revision 3, “Revision of Channel Calibration, Channel Functional Test, and Related Definitions.” Additionally, LOGIC SYSTEM FUNCTIONAL TEST is further revised to eliminate the requirement of the logic system functional test to continue through to the actuating device at the end of the logic circuit sequence.
Proposed Determination | NSHC.
Name of Attorney for Licensee, Mailing Address | Tamra Domeyer, Associate General Counsel, Exelon Generation Company, LLC, 4300 Winfield Road, Warrenville, IL 60555.
NRC Project Manager, Telephone Number | V. Sreenivas, 301-415-2597.
Exelon Generation Company, LLC; Peach Bottom Atomic Power Station, Units 2 and 3; York County, PA
Docket No(s) | 50-277, 50-278.
Application date | April 29, 2021.
ADAMS Accession No | ML21119A141.
Location in Application of NSHC | Pages 15-17 of Attachment 1.
Brief Description of Amendment(s) | The proposed amendments would change the Technical Specifications Administrative Controls Section 5.5.7, “Ventilation Filter Testing Program (VFTP),” to change the frequency for performing certain testing requirements from 12 months as currently specified to 24 months. The VFTP establishes the required testing and testing frequency of engineered safety feature filter ventilation systems.
Proposed Determination | NSHC.
Name of Attorney for Licensee, Mailing Address | Tamra Domeyer, Associate General Counsel, Exelon Generation Company, LLC, 4300 Winfield Road, Warrenville, IL 60555.
NRC Project Manager, Telephone Number | Jason Drake, 301-415-8378.
La Crosse Solutions, LLC; La Crosse Boiling Water Reactor; Vernon County, WI
Docket No(s) | 50-409, 72-046.
Application date | March 8, 2021.
ADAMS Accession No | ML21105A033.
Location in Application of NSHC | Pages 10-11 of Enclosure 1.
Brief Description of Amendment(s) | The proposed amendment would revise the La Crosse Boiling Water Reactor (LACBWR) Independent Spent Fuel Storage Installation (ISFSI) Emergency Plan (E-Plan) to adopt changes implemented by NAC International's Multi-Purpose Canister System (NAC-MPC) Amendment No. 7 to the 10 CFR 72 Certificate of Compliance 1025 for LACBWR, and the NAC-MPC Final Safety Analysis Report, Revision 12, which removes the requirement for the Post Event ISFSI Surveillance. The proposed revisions would also: (1) enhance the ISFSI emergency action levels by providing the ability to classify an emergency in an effective and timely manner without entering the ISFSI protected area and (2) make several other changes to the LACBWR ISFSI E-Plan that require prior NRC approval, including the requirements for performance of a medical drill.
Proposed Determination | NSHC.
Name of Attorney for Licensee, Mailing Address | Russ Workman, General Counsel, EnergySolutions, 299 South Main Street, Suite 1700, Salt Lake City, UT 84111.
NRC Project Manager, Telephone Number | Marlayna Doell, 301-415-3178.
Northern States Power Company—Minnesota; Prairie Island Nuclear Generating Plant, Unit Nos. 1 and 2; Goodhue County, MN
Docket No(s) | 50-282, 50-306.
Application date | April 19, 2021.
ADAMS Accession No | ML21109A385.
Location in Application of NSHC | Pages 11-13 of the Enclosure.
Brief Description of Amendment(s) | The proposed amendments would adopt Technical Specifications Task Force (TSTF) Traveler TSTF-471, “Eliminate Use of the Term CORE ALTERATIONS in ACTIONS and Notes,” with site-specific variations. The proposed changes eliminate the defined term CORE ALTERATIONS and all uses of the term from the technical specifications (TSs) and Bases. The proposed amendments also adopt TSTF-571-T, “Revise Actions for Inoperable Source Range Neutron Flux Monitor,” which changes TS 3.9.3, “Nuclear Instrumentation,” to ensure that no actions are taken that could alter the core reactivity when a required core subcritical neutron flux monitor is inoperable. The proposed amendments also make an administrative change to reformat the page numbering of TS Section 5.0 and remove unused pages for ease of future changes.
Proposed Determination | NSHC.
Name of Attorney for Licensee, Mailing Address | Peter M. Glass, Assistant General Counsel, Xcel Energy, 414 Nicollet Mall—401-8, Minneapolis, MN 55401.
NRC Project Manager, Telephone Number | Robert Kuntz, 301-415-3733.
Pacific Gas and Electric Company; Diablo Canyon Power Plant, Units 1 and 2; San Luis Obispo County, CA
Docket No(s) | 50-275, 50-323.
Application date | March 29, 2021.
ADAMS Accession No | ML21088A437.
Location in Application of NSHC | Pages 15-16 of the Enclosure.
Brief Description of Amendment(s) | The proposed amendments would revise Technical Specification 3.8.1, “AC [Alternating Current] Sources—Operating,” to support diesel fuel oil transfer system component planned maintenance.
Proposed Determination | NSHC.
Name of Attorney for Licensee, Mailing Address | Jennifer Post, Esq., Pacific Gas and Electric Co., 77 Beale Street, Room 3065, Mail Code B30A, San Francisco, CA 94105.
NRC Project Manager, Telephone Number | Samson Lee, 301-415-3168.
PSEG Nuclear LLC; Salem Nuclear Generating Station, Unit Nos. 1 and 2; Salem County, NJ
Docket No(s) | 50-272, 50-311.
Application date | April 28, 2021.
ADAMS Accession No | ML21118B060.
Location in Application of NSHC | Pages 1-3 of Enclosure 1.
Brief Description of Amendment(s) | The proposed amendments would adopt Technical Specifications Task Force (TSTF) Traveler TSTF-577, “Revised Frequencies for Steam Generator Tube Inspections,” which is an approved change to the Standard Technical Specifications into the Salem Generating Station Unit Nos. 1 and 2 Technical Specifications.
Proposed Determination | NSHC.
Name of Attorney for Licensee, Mailing Address | Steven Fleischer, PSEG Services Corporation, 80 Park Plaza, T-5, Newark, NJ 07102.
NRC Project Manager, Telephone Number | James Kim, 301-415-4125.
Southern Nuclear Operating Company, Inc.; Edwin I Hatch Nuclear Plant, Units 1 and 2; Appling County, GA; Southern Nuclear Operating Company, Inc.; Joseph M Farley Nuclear Plant, Units 1 and 2; Houston County, AL; Southern Nuclear Operating Company, Inc.; Vogtle Electric Generating Plant, Units 1 and 2; Burke County, GA
Docket No(s) | 50-348, 50-364, 50-424, 50-425, 50-321, 50-366.
Application date | March 25, 2021.
ADAMS Accession No | ML21084A003.
Location in Application of NSHC | Pages E9-E10 of the Enclosure.
Brief Description of Amendment(s) | The proposed amendments would revise Technical Specification (TS) 5.0, “Administrative Controls,” specifically, TS 5.7, “High Radiation Area,” to align with the Standard TS in NUREG-1431, “Standard Technical Specifications, Westinghouse Plants,” Revision 4.0, and NUREG-1433, “Standard Technical Specifications, General Electric BWR/4 Plants,” Revision 4.0, as applicable.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Southern Nuclear Operating Company, Inc.; Vogtle Electric Generating Plant, Units 1 and 2; Burke County, GA
Docket No(s) | 50-424, 50-425.
Application date | March 30, 2021, as supplemented by letter dated May 6, 2021.
ADAMS Accession No | ML21089A388, ML21126A231.
Location in Application of NSHC | Pages E5-E6 of the Enclosure.
Brief Description of Amendment(s) | The proposed amendments would revise Technical Specification 3.3.5, “Loss of Power (LOP) Instrumentation,” Surveillance Requirement 3.3.5.2, “Allowable Values,” to modify the allowable value for the loss of voltage and degraded voltage relays.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Tennessee Valley Authority; Watts Bar Nuclear Plant, Unit 2; Rhea County, TN
Docket No(s) | 50-391.
Application date | March 2, 2021.
ADAMS Accession No | ML21061A347.
Location in Application of NSHC | Pages 8-10 of the Enclosure.
Brief Description of Amendment(s) | The proposed amendment would revise the technical specifications (TSs) to change the steam generator water level requirement in the TS Limiting Condition for Operation 3.4.7.b, “RCS [Reactor Coolant System] Loops—MODE 5, Loops Filled,” and Surveillance Requirements (SR) 3.4.5.2, “RCS Loops—MODE 3,” SR 3.4.6.3, “RCS Loops—MODE 4,” and SR 3.4.7.2 from greater than or equal to (≥) 6 percent (%) to ≥32%.
Proposed Determination | NSHC.
Name of Attorney for Licensee, Mailing Address | David Fountain, Executive VP and General Counsel, Tennessee Valley Authority, 400 West Summit Hill Drive, WT 6A, Knoxville, TN 37902.
NRC Project Manager, Telephone Number | Michael Mahoney, 301-415-3867.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
DTE Electric Company; Fermi, Unit 2; Monroe County, MI
Docket No(s) | 50-341.
Amendment Date | May 24, 2021.
ADAMS Accession No | ML21029A254.
Amendment No(s) | 220.
Brief Description of Amendment(s) | The amendment deleted License Condition 2.C.(26)(c) and revised Technical Specification (TS) 4.3, “Fuel Storage,” and TS 5.5, “Programs and Manuals,” to allow the use of neutron absorbing inserts (i.e., NETCO SNAP-IN® rack inserts) in the spent fuel pool storage racks containing Boraflex as an alternative to replacing those racks with racks containing Boral.
Public Comments Received as to Proposed NSHC (Yes/No) | No.
Duke Energy Progress, LLC; Brunswick Steam Electric Plant, Units 1 and 2; Brunswick County, NC
Docket No(s) | 50-324, 50-325.
Amendment Date | April 30, 2021.
ADAMS Accession No | ML21067A224.
Amendment No(s) | 305 (Unit 1) and 333 (Unit 2).
Brief Description of Amendment(s) | The amendments revised license conditions to the Renewed Facility Operating Licenses to allow the implementation of 10 CFR 50.69, “Risk-informed categorization and treatment of structures, systems and components [SSCs] for nuclear power reactors.” Specifically, the revised license conditions replace the use of the external flood probabilistic risk assessment for categorization of SSCs under Duke Energy Progress, LLC's previously approved 10 CFR 50.69 program with external flood hazard screening.
Public Comments Received as to Proposed NSHC (Yes/No) | No.
Exelon Generation Company, LLC; Clinton Power Station, Unit No. 1; DeWitt County, IL
Docket No(s) | 50-461.
Amendment Date | May 19, 2021.
ADAMS Accession No | ML21090A193.
Amendment No(s) | 237.
Brief Description of Amendment(s) | The amendment modified the licensing basis by the addition of a license condition to allow for the implementation of the provisions of 10 CFR 50.69, “Risk-informed categorization and treatment of structures, systems and components for nuclear power reactors.”
Public Comments Received as to Proposed NSHC (Yes/No) | No.
Exelon Generation Company, LLC; Peach Bottom Atomic Power Station, Units 2 and 3; York County, PA
Docket No(s) | 50-277, 50-278.
Amendment Date | May 14, 2021.
ADAMS Accession No | ML21074A411.
Amendment No(s) | 338 (Unit 2) and 341 (Unit 3).
Brief Description of Amendment(s) | The amendments revised technical specification requirements to permit the use of risk-informed completion times for actions to be taken when limiting conditions for operation are not met. The changes are based on Technical Specifications Task Force (TSTF) Traveler TSTF-505, Revision 2, “Provide Risk-Informed Extended Completion Times—RITSTF Initiative 4b,” dated July 2, 2018.
Public Comments Received as to Proposed NSHC (Yes/No) | No.
Holtec Pilgrim, LLC and Holtec Decommissioning International; Pilgrim Nuclear Power Station; Plymouth County, MA
Docket No(s) | 50-293, 72-1044.
Amendment Date | May 12, 2021.
ADAMS Accession No | ML21103A046 (Package).
Amendment No(s) | 254.
Brief Description of Amendment(s) | The amendment revised the Pilgrim Physical Security Plan (PSP) and revised License Condition 3.G, “Physical Protection.” The revised PSP, Rev. 20, integrates the existing PSP's Appendix D, and provides the security requirements for the site which includes the two independent spent fuel storage installations.
Public Comments Received as to Proposed NSHC (Yes/No) | No.
NextEra Energy Duane Arnold, LLC; Duane Arnold Energy Center; Linn County, IA
Docket No(s) | 50-331.
Amendment Date | April 28, 2021.
ADAMS Accession No | ML21098A166.
Amendment No(s) | 313.
Brief Description of Amendment(s) | The amendment revised the Duane Arnold Energy Center (DAEC) emergency plan and emergency action level scheme to reflect the permanently shutdown and defueled condition of DAEC. The amendment is effective 10 months following the permanent cessation of power operations at DAEC, which is June 10, 2021.
Public Comments Received as to Proposed NSHC (Yes/No) | No.
NextEra Energy Duane Arnold, LLC; Duane Arnold Energy Center; Linn County, IA
Docket No(s) | 50-331.
Amendment Date | May 13, 2021.
ADAMS Accession No | ML21067A642.
Amendment No(s) | 314.
Brief Description of Amendment(s) | The amendment removed the Duane Arnold Energy Center (DAEC) Cyber Security Plan from DAEC License Condition 2.C.(5) and deleted DAEC License Condition 2.C.(10) to remove reference to NRC Order EA-06-137, “Order Requiring Compliance with Key Radiological Protection Mitigation Strategies,” which was withdrawn by letter dated April 20, 2021.
Public Comments Received as to Proposed NSHC (Yes/No) | No.
Nine Mile Point Nuclear Station, LLC and Exelon Generation Company, LLC; Nine Mile Point Nuclear Station, Unit 2; Oswego County, NY
Docket No(s) | 50-410.
Amendment Date | April 29, 2021.
ADAMS Accession No | ML21082A221.
Amendment No(s) | 186.
Brief Description of Amendment(s) | The amendment revised the technical specification requirements to permit the use of risk-informed completion times for actions to be taken when limiting conditions for operation are not met. The proposed changes are based on Technical Specifications Task Force (TSTF) Traveler TSTF-505, Revision 2, “Provide Risk-Informed Extended Completion Times—RITSTF Initiative 4b,” dated July 2, 2018.
Public Comments Received as to Proposed NSHC (Yes/No) | No.
Tennessee Valley Authority; Browns Ferry Nuclear Plant, Units 1, 2, and 3; Limestone County, AL
Docket No(s) | 50-259, 50-260, 50-296.
Amendment Date | April 30, 2021.
ADAMS Accession No | ML21075A076.
Amendment No(s) | 316 (Unit 1), 339 (Unit 2), and 299 (Unit 3).
Brief Description of Amendment(s) | The amendments incorporated the Tornado Missile Risk Evaluator methodology into the Browns Ferry Nuclear Plant, Units 1, 2, and 3, Updated Final Safety Analysis Report.
Public Comments Received as to Proposed NSHC (Yes/No) | No.
Tennessee Valley Authority; Sequoyah Nuclear Plant, Units 1 and 2; Hamilton County, TN
Docket No(s) | 50-327, 50-328.
Amendment Date | May 4, 2021.
ADAMS Accession No | ML21084A190.
Amendment No(s) | 355 (Unit 1) and 348 (Unit 2).
Brief Description of Amendment(s) | The amendments revised Technical Specification (TS) Table 3.3.3-1, “Post Accident Monitoring Instrumentation,” required actions and completion times for Functions 15 a, b, and c, “Reactor Vessel Level Instrumentation.” Additionally, the amendments deleted Note g from TS Table 3.3.3-1, Function 15.c from the Unit 2 TSs, and removed License Condition 26 from the Unit 2 Renewed Facility Operating License.
Public Comments Received as to Proposed NSHC (Yes/No) | No.
Tennessee Valley Authority; Watts Bar Nuclear Plant, Units 1 and 2; Rhea County, TN
Docket No(s) | 50-390, 50-391.
Amendment Date | May 5, 2021.
ADAMS Accession No | ML21078A484.
Amendment No(s) | 145 (Unit 1) and 51 (Unit 2).
Brief Description of Amendment(s) | The amendments revised the Watts Bar, Units 1 and 2, Technical Specification (TS) 3.7.11, “Control Room Emergency Air Temperature Control System (CREATCS),” to add a one-time footnote to the Completion Time for Required Action A.1 to allow each CREATCS train to be inoperable for up to 60 days while replacing each respective train's chiller. The amendments also added a one-time footnote to the Completion Time for Required Action E.1 to allow up to a 4-day delayed entry into TS Limiting Condition for Operation 3.0.3 if both trains of CREATCS become inoperable.
Public Comments Received as to Proposed NSHC (Yes/No) | No.
Tennessee Valley Authority; Watts Bar Nuclear Plant, Units 1 and 2; Rhea County, TN
Docket No(s) | 50-390, 50-391.
Amendment Date | May 14, 2021.
ADAMS Accession No | ML21099A246.
Amendment No(s) | 146 (Unit 1) and 52 (Unit 2).
Brief Description of Amendment(s) | The amendments revised the Watts Bar, Units 1 and 2, Technical Specification (TS) 3.4.16, “RCS [Reactor Coolant System] Specific Activity,” to replace the current limit on RCS gross specific activity with a new limit on RCS noble gas specific activity. The changes are consistent with NRC-approved Technical Specifications Task Force (TSTF) Improved Standard TS Change Traveler TSTF-490, “Deletion of E Bar Definition and Revision to RCS Specific Activity Tech Spec,” Revision 0.
Public Comments Received as to Proposed NSHC (Yes/No) | No.
U.S. Dept. of Transportation, Maritime Administration, NS SAVANNAH, Baltimore, MD
Docket No(s) | 50-238.
Amendment Date | March 18, 2021.
ADAMS Accession No | ML21067A665.
Amendment No(s) | 18.
Brief Description of Amendment(s) | The amendment revised the technical specifications to remove (1) a redundant environmental sampling reporting requirement, (2) a redundant access control requirement, and (3) a hull striping requirement that is inconsistent with active decommissioning.
Public Comments Received as to Proposed NSHC (Yes/No) | No.

Dated: June 8, 2021.
For the Nuclear Regulatory Commission.
Jennifer L. Dixon-Herrity,
Acting Deputy Director, Division of Operating Reactor Licensing, Office of Nuclear Reactor Regulation.

[FR Doc. 2021-12286 Filed 6-14-21; 8:45 am]

BILLING CODE 7590-01-P